DEPARTMENT OF COMMERCE

International Trade Administration

[A-427-818]

Low-Enriched Uranium From France: Final Results of Antidumping Duty Administrative Review; 2013-2014

AGENCY: Enforcement and Compliance, International Trade Administration, Department of Commerce.

SUMMARY: On March 9, 2015, the Department of Commerce (the Department) published the preliminary results of the administrative review of the antidumping duty order on low-enriched uranium (LEU) from France.¹ The review covers one producer or exporter of the subject merchandise, Eurodif S.A., AREVA NC, and AREVA NC, Inc. (collectively AREVA). The Department determines that AREVA made no shipments of subject merchandise during the POR. The Department also determines that we will issue revised certifications required from the importer and end-user.

¹ See Low Enriched Uranium from France; Preliminary Results of Antidumping Duty Administrative Review; 2013-2014, 80 FR 12434 (March 9, 2015) (Preliminary Results).

DATES: Effective Date: September 14, 2015.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

For a complete description of the events that followed the Preliminary Results, see the Issues and Decision Memorandum.² The Issues and Decision Memorandum is a public document and is available electronically via Enforcement and Compliance's Antidumping and Countervailing Duty Centralized Electronic Services System (ACCESS). ACCESS is available to registered users at http://acess.trade.gov, and it is available to all parties in the Central Records Unit of the main Commerce Building, room B8024. In addition, a complete version of the Issues and Decision Memorandum is also accessible on the internet at http://enforcement.trade.gov/frn/index.html. The signed Issues and Decision Memorandum and the electronic versions of the Issues and Decision Memorandum are identical in content.

² See “Decision Memorandum for the Final Results of Antidumping Duty Administrative Review: Low-Enriched Uranium From France: 2013-2014” from Gary Taverman, Associate Deputy Assistant Secretary for Antidumping and Countervailing Duty Operations to Paul Piquado, Assistant Secretary for Enforcement and Compliance (Issues and Decision Memorandum), dated concurrently with these results and herby adopted by this notice.

Period of Review

The period of review (POR) is February 1, 2013, through January 31, 2014.

Scope of the Order

The product covered by the order is all low-enriched uranium. Low-enriched uranium is enriched uranium hexafluoride (UF6) with a U²³⁵ product assay of less than 20 percent that has not been converted into another chemical form, such as UO2, or fabricated into nuclear fuel assemblies, regardless of the means by which the LEU is produced (including low-enriched uranium produced through the down-blending of highly enriched uranium).³

³ For a full description of the scope of the order, see the Issues and Decision Memorandum.

Analysis of Comments Received

All issues raised by the parties in the case and rebuttal briefs are addressed in the Issues and Decision Memorandum. A list of the issues addressed in the Issues and Decision Memorandum is appended to this notice.

Changes Since the Preliminary Results

In the Preliminary Results the Department determined that AREVA did have shipments of merchandise subject to the antidumping order on LEU from France during the POR. Upon review of the comments received from parties, the Department finds that AREVA had no shipments subject to the antidumping duty order. We have also determined to allow revised the re-export certifications required under the scope of the order to allow replenishment of LEU that has been re-exported and to address the issue of samples in future entries.⁴

⁴ See Issue 2: Re-export Certifications section of the Issues and Decision Memorandum.

Determination of No Shipments

We determine that AREVA had no shipments of merchandise subject to the antidumping duty order on LEU from France during the POR.

Determination of Revised Certifications

The Department will issue customs instructions with revised certifications to U.S. Customs and Border Protection (CBP). These instructions will be posted on CBP's Antidumping and Countervailing Duty Online Search System, available at http://adcvd.cbp.dhs.gov/adcvdweb/, and the Department will release the customs instructions with revised certifications via ACCESS. The revised certifications are effective when posted on the CBP's Antidumping and Countervailing Duty Online Search System.

Assessment Rates

Since the Department found that AREVA had no shipments subject to the order during the POR, we did not calculate importer-specific assessment rates for these final results.

The Department clarified its “automatic assessment” regulation on May 6, 2003. This clarification will apply to entries of subject merchandise during the POR produced by companies included in the final results of review for which these companies did not know that the merchandise was destined for the United States. In such instances, we will instruct CBP to liquidate un-reviewed entries at the all-others rate if there is no rate for the intermediate company(ies) involved in the transaction.⁵

⁵ See Antidumping and Countervailing Duty Proceedings: Assessment of Antidumping Duties, 68 FR 23954 (May 6, 2003).

We intend to issue instructions to CBP 15 days after publication of the final results of this review.

Cash Deposit Requirements

The following deposit requirements will be effective for all shipments of LEU from France entered, or withdrawn from warehouse, for consumption on or after the date of publication of the final results of this administrative review, as provided for by section 751(a)(2)(C) of the Act: (1) The cash deposit rate for AREVA will remain unchanged from the rate assigned to the company in the most recently completed review of that company, except for entries for which the importer claims to be excluded from the order under the re-export provision of the scope, which will require a cash deposit rate of zero percent; (2) for previously reviewed or investigated companies not listed above, the cash deposit rate will continue to be the company-specific rate published for the most recent period with a completed segment of this proceeding; (3) if the exporter is not a firm covered in this review, a prior review, or the less-than-fair-value investigation, but the manufacturer is, the cash deposit rate will be the rate established for the most recent period with a completed segment of this proceeding for the manufacturer of the merchandise; and (4) the cash deposit rate for all other manufacturers or exporters will continue to be 19.95 percent, the all-others rate established in the investigation.⁶ Entries accompanied by certifications from the exporter, the importer, and the end user, indicating that the LEU will be re-exported within 18 months will be subject to a cash deposit requirement of zero percent ad valorem. These cash deposit requirements, when imposed, shall remain in effect until further notice.

⁶ See Notice of Amended Final Determination of Sales at Less Than Fair Value and Antidumping Duty Order: Low Enriched Uranium From France, 67 FR 6680 (February 13, 2002).

Notification Regarding Administrative Protective Orders

This notice is the only reminder to parties subject to the administrative protective order (APO) of their responsibility concerning the return or destruction of proprietary information disclosed under the APO in accordance with 19 CFR 351.305(a)(3), which continues to govern business proprietary information in this segment of the proceeding. Timely written notification of the return or destruction of APO materials, or conversion to judicial protective order, is hereby requested. Failure to comply with the regulations and the terms of an APO is a sanctionable violation.

Notification to Importers

This notice serves as a final reminder to the importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification to Interested Parties

These final results of administrative review are issued and published in accordance with sections 751(a)(1) and 777(i)(1) of the Act.

Dated: September 4, 2015.
Paul Piquado,
Assistant Secretary for Enforcement and Compliance.

Appendix

Issues in the Issues and Decision Memorandum

I. Summary

II. Background

III. Scope of the Order

IV. Discussion of the Issues

Comment 1: Treatment of Samples

Comment 2: Re-export Certifications

V. Determination of No Shipments

VI. Revised Entry Certifications

VII. Recommendation

[FR Doc. 2015-23050 Filed 9-11-15; 8:45 am]

BILLING CODE 3510-DS-P